DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2011, there were nine applications approved. Additionally, four approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: University of Illinois—Willard, Savoy, Illinois.

Application Number: 11-04-C-00-CMI.

Application Type: Impose and use a PFC. PFC LEVEL: $4.50.

Total PFC Revenue Approved in This Decision: $1,359,105.

Earliest Charge Effective Date: March 1, 2011.

Estimated Charge Expiration Date: August 1, 2014.

Class of Air Carriers not Required To Collect PFC's: Non-scheduled/on-demand operators filing FAA Form 1800-31.

Determination: Approved. Based on information submitted in the public agency's application, the FAA has determined that the approved class accounts for less than 1 percent of the total annual enplanements at University of Illinois—Willard Airport.

Brief Description of Projects Approved for Collection at and Use:

Panel repair and replacement taxiway D.

Panel repair and replacement runway 4/22.

General aviation ramp.

Mandatory pavement markings. Airport signage.

Runway guard lights.

Wildlife study.

PFC application development.

Runway deicing equipment.

Security system replacement/upgrade.

Terminal building improvements (Transportation Security Administration operations).

Water quality improvement (fuel tank equipment).

Part 139 emergency communication equipment (radios).

Airfield vault replacement.

Flight information display system. Airport master plan update.

Reconstruct connector to runway 22 and construct taxiway A and B improvements (fillets and tapers).

Security improvements (exit lane monitoring).

Decision Date: January 3, 2011.

FOR FURTHER INFORMATION CONTACT: Gary Wilson, Chicago Airports District Office, (847) 291-7631.

Public Agency: City of LaCrosse, Wisconsin.

Application Number: 11-09-C-00-LSE.

Application Type: Impose and use a PFC.

PFC Level: $4.50.

Total PFC Revenue Approved in This Decision: $1,271,917.

Earliest Charge Effective Date: March 1, 2013.

Estimated Charge Expiration Date: January 1, 2016.

Class of Air Carriers not Required To Collect PFC's: None.

Brief Description of Projects Approved for Collection and Use:

Runway 3/36 reconfiguration.

Mobile Americans with Disabilities Act lift.

Snow removal equipment.

Finger print equipment.

Runway 18/36 pavement maintenance.

Runway 13/31 pavement maintenance.

PFC administration fees.

Brief Description of Project Partially Approved for Collection and Use: Commercial terminal building upgrades.

Determination: Several proposed components were found to be either ineligible or lacking in justification and, thus, these components did not meet the requirements of § 158.15 and/or § 158.17(c) and were disapproved.

Decision Date: January 3, 2011.

FOR FURTHER INFORMATION CONTACT: Tina Young, Great Lakes Region Airports Division, (612) 713-4352.

Public Agency: County of Chemung, Horseheads, New York.

Applications Number: 11-04-C-00-ELM.

Application Type: Impose and use a PFC.

PFC Level: $4.50.

Total PFC Revenue Approved in This Decision: $2,635,941.

Earliest Charge Effective Date: October 1, 2015.

Estimated Charge Expiration Date: December 1, 2020.

Class of Air Carriers not Required To Collect PFC's:Nonscheduled/on-demand air carriers filing FAA Form 1800-31.

Determination: Approved. Based on information submitted in the public agency's application, the FAA has determined that the approved class accounts for less than 1 percent of the total annual enplanements at Elmira Corning Regional Airport.

Brief Description of Project Approved for Use:Master plan update.

Brief Description of Projects Approved for Collection and Use:

Tractor with snow blower and snow plow.

Airport security and access control upgrades—design.

Airport security and access control upgrades—construction.

PFC application, amendments, and administration.

Brief Description of Withdrawn Projects:Truck—mounted snow blower.

Date of Withdrawal: December 29, 2010.

Land acquisition (Sing Sing Road).

Date of Withdrawal: December 22, 2010.

Decision Date: January 4, 2011.

FOR FURTHER INFORMATION CONTACT: Andrew Brooks, New York Airports District office, (516) 227-3816.

Public Agency: Williams Gateway Airport, Mesa, Arizona.

Application Number: 11-02-C-00-IWA.

Application Type: Impose and use a PFC.

PFC Level: $4.50.

Total PFC Revenue Approved in This Decision: $34,555,545.

Earliest Charge Effective Date: February 1, 2013.

Estimated Charge Expiration Date: July 1, 2017.

Class of Air Carriers Not Required To Collect PFC's:None.

Brief Description o f Projects Approved for Collection and Use:

Construct taxilane L drainage improvements.

Construct taxiway B, phase IV.

Design west terminal expansion, phase I.

Construct west terminal expansion, phase I.

Construct south apron drainage improvements.

Construct Alpha apron expansion, phase II.

Design/construct west terminal parking expansion, phase I.

Airport geographical information system/electronic airport layout plan.

Design/construct west terminal parking expansion, phase II.

Airport master plan update.

Construct taxiway B, phase II.

Improve building (Hangar 31).

Construct taxiway B, phase III.

Construct Sossaman Road parking lots.

Design/construct airport service road.

Acquire aircraft rescue and firefighting vehicle.

Design/construct west terminal expansion, phase II.

Design/construct west terminal expansion, phase III.

Brief Description of Projects Approved for Collection:

Design/construct fuel farm.

Design/reconstruct taxiway P.

Decision Date: January 5, 2011.

FOR FURTHER INFORMATION CONTACT: Darlene Williams, Los Angeles Airports District Office, (310) 725-3625.

Public Agency: Indian Wells Valley Airport District, Inyokern, California.

Application Number: 11-07-U-00-IYK.

Application Type: Use PFC revenue.

PFC Level: $4.50.

Total PFC Revenue Approved for Use in This Decision: $309,210.

Charge Effective Date: March 1, 2009.

Estimated Charge Expiration Date: March 1, 2019.

Class of Air Carriers Not Required To Collect PFC's:No change from previous decision.

Brief Description of Projects Approved for Use:

Runway 02/20, taxiway, apron, and access road rehabilitation.

Runway 02/20 reconstruction.

Taxiway Al construction.

Runway 15/33 reconstruction.

Decision Date: January 14, 2011.

FOR FURTHER INFORMATION CONTACT: Darlene Williams, Los Angeles Airports District Office, (310) 725-3625.

Public Agency: Niagara Frontier Transportation Authority, Buffalo, New York.

Application Number: 10-08-C-00-BUF.

Application Type: Impose and use a PFC.

PFC Level: $4.50.

Total PFC Revenue Approved in This Decision: $1,844,244.

Earliest Charge Effective Date: March 1, 2014.

Estimated Charge Expiration Date: June 1, 2014.

Class of Air Carriers Not Required To Collect PFC's:Air taxi/commercial operators filing FAA Form 1800-31.

Determination: Approved. Based on information submitted in the public agency's application, the FAA has determined that the approved class accounts for less than 1 percent of the total annual enplanements at Buffalo Niagara International Airport.

Brief Description of Projects Approved for Collection and Use at a $4.50 PFC Level:

Construction of aircraft rescue and firefighting command control center upgrades.

Replacement of constant current regulators for airfield lighting circuits.

Purchase aircraft rescue and firefighting safety equipment.

Brief Description of Projects Approved for Collection and Use at a $3.00 PFC Level:

Replace revolving doors with sliding doors in the passenger terminal.

Update airport master plan.

Performance of wildlife hazard assessment.

Two-tiered roadway pavement rehabilitation.

Brief Description of Disapproved Project:

PFC planning and program administration.

Determination: The public agency did not provide adequate justification for the proposed project. Therefore, the project did not meet the requirements of § 158.15 and § 158.17.

Brief Description of Withdrawn Projects:

Installation of low sulfur diesel tank.

Installation of liquid chemical storage tank.

Date of withdrawal: October 12, 2010.

Decision Date: January 14, 2011.

FOR FURTHER INFORMATION CONTACT: Andrew Brooks, New York Airports District Office, (516) 227-3816.

Public Agency: Town of Barnstable, Hyannis, Massachusetts.

Application Number: 11-01-C-00-HYA.

Application Type: Impose and use a PFC.

PFC Level: $2.00.

Total PFC Revenue Approved in This Decision: $2,573,600.

Earliest Charge Effective Date: March 1, 2011.

Estimated Charge Expiration Date: October 1, 2024.

Class of Air Carriers Not Required To Collect PFC's:On-demand air taxi commercial operators.

Determination: Approved. Based on information submitted in the public agency's application, the FAA has determined that the approved class accounts for less than 1 percent of the total annual enplanements at Barnstable Municipal Airport.

Brief Description of Projects Approved for Collection and Use:

New terminal building.

PFC application assistance.

Decision Date: January 20, 2011.

FOR FURTHER INFORMATION CONTACT: Priscilla Scott, New England Region Airports Division, (781) 238-7614.

Public Agency: City of Duluth, Minnesota.

Application Number: 11-10-C-00-DLH.

Application Type: Impose and use a PFC.

PFC Level: $4.50.

Total PFC Revenue Approved in This Decision: $1,639,571.

Earliest Charge Effective Date: November 1, 2011.

Estimated Charge Expiration Date: November 1, 2014.

Class of Air Carriers Not Required To Collect PFC's:Non-scheduled air taxi/commercial operators.

Determination: Approved. Based on information submitted in the public agency's application, the FAA has determined that the approved class accounts for less than 1 percent of the total annual enplanements at Duluth International Airport.

Brief Description of Projects Approved for Collection and Use:

Preparation of PFC notice of intent.

Construct passenger terminal replacement: terminal building structure and enclosure (phase 2: bid package 1A).

Construct passenger terminal replacement: terminal building structure and enclosure (phase 2: bid package 1B).

Brief Description of Projects Partially Approved for Collection and Use:

Construct passenger terminal replacement: terminal building structure and enclosure (phase 2: bid package 2).

Construct passenger terminal replacement: terminal building structure and enclosure (phase 2: bid package 3).

Determination: The PFC approved amount for each project was reduced from that requested. The approved amounts were limited to the amounts identified in the public agency's air carrier consultation and public notice processes.

Decision Date: January 20, 2011.

FOR FURTHER INFORMATION CONTACT: Gordon Nelson, Minneapolis Airports District Office, (612) 713-4358.

Public Agency: Columbus Regional Airport Authority, Columbus, Ohio.

Applications Number: 10-09-C-00-CMH.

Application Type: Impose and use a PFC.

PFC Level: $4.50.

Total PFC Revenue Approved in This Decision: $184,864,011.

Earliest Charge Effective Date: April 1, 2013.

Estimated Charge Expiration Date: February 1, 2024.

Class of Air Carriers Not Required to Collect PFC's:Air taxi/commercial operators when enplaning passengers in service and equipment reportable to FAA on FAA Form 1800-31.

Determination: Approved. Based on information submitted in the public agency's application, the FAA has determined that the approved class accounts for less than 1 percent of the total annual enplanements at Port Columbus International Airport.

Brief Description of Projects Approved for Collection and Use at a $3.00 PFC Level:

Checked baggage screening and install new outbound baggage make-up units.

Replacement of bag claim units 2 thru 5.

Four permanent noise monitoring terminals.

Update pavement management program.

Reimbursement for jet bridges and acquisition and rehabilitation of additional jet bridges (9-14).

PFC program formulation cost.

Brief Description of Projects Approved For Collection and Use at a $4.50 PFC Level:

Storm water detention for Turkey Run.

Acquisition and demolition of properties in new runway protection zone for replacement runway 10R/28L.

Replacement runway obstruction mitigation.

Airport golf course modifications.

Runway 10R/28L replacement and conversion of existing runway 10R/28L to a taxiway.

Demolish on-airport structures.

Noise berm/wall.

Residential sound insulation program phase XI (9-13).

Brief Description of Withdrawn Project:Storm water basin at Outfall Four.

Date of withdrawal: January 21, 2011.

Decision Date: January 28, 2011.

FOR FURTHER INFORMATION CONTACT: Gordon Nelson, Minneapolis Airports District Office, (612) 713-4358.

Amendments to PFC Approvals
Amendment number, city, state | Amendment approved date | Original approved net PFC revenue | Amended approved net PFC revenue | Original estimated charge exp. date | Amended estimated charge exp. date
08-02-C-02-PIE, Clearwater, FL | 12/17/10 | $3,323,450 | $6,628,510 | 11/01/11 | 11/01/12
03-04-C-03-BHM, Birmingham, AL | 01/13/11 | $9,924,690 | $8,650,171 | 04/01/07 | 04/01/07
06-06-C-02-BHM, Birmingham, AL | 01/13/11 | $5,600,000 | $5,509,101 | 10/01/08 | 10/01/08
08-07-C-01-BHM Birmingham, AL | 01/13/11 | $15,173,639 | $13,682,648 | 03/01/10 | 07/01/10

Issued in Washington, DC on February 23, 2011.
Joe Hebert,
Manager, Financial Analysis and Passenger Facility Charge Branch.

[FR Doc. 2011-4828 Filed 3-4-11; 8:45 am]

BILLING CODE 4910-13-M